DEPARTMENT OF COMMERCE

National Oceanic and Atmospheric Administration

[I.D. 081700B]

Endangered Species; Permits

AGENCY: National Marine Fisheries Service (NMFS), National Oceanic and Atmospheric Administration (NOAA), Commerce.

ACTION: Issuance of permits (1239); and modifications to existing permits (1245).

SUMMARY: Notice is hereby given of the following actions regarding permits for takes of endangered and threatened species for the purposes of scientific research and/or enhancement:

NMFS has issued permit 1239 to Dr. Boyd Kynard, of U.S. Geological Survey (USGS); NMFS has issued modification #1 to permit 1245 to Mr. J. David Whitaker, of South Carolina Department of Natural Resources (SC-DNR).

DATES: Comments or requests for a public hearing on any of the new applications or modification requests must be received at the appropriate address or fax number no later than 5:00 p.m. eastern standard time on September 22, 2000.

ADDRESSES: Written comments on any of the new applications or modification requests should be sent to the appropriate office as indicated below. Comments may also be sent via fax to the number indicated for the application or modification request. Comments will not be accepted if submitted via e-mail or the internet. The applications and related documents are available for review in the indicated office, by appointment:

For permits 1239 and 1245, Endangered Species Division, Office of Protected Resources, NMFS, 1315 East-West Highway, Silver Spring, MD, 20910 (301-713-1401).

Documents may also be reviewed by appointment in the Office of Protected Resources, F/PR3, NMFS, 1315 East-West Highway, Silver Spring, MD 20910-3226 (301-713-1401).

FOR FURTHER INFORMATION CONTACT: Terri Jordan, Silver Spring, MD, (301-713-1401 x148).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Endangered Green turtle (Chelonia mydas), Endangered Hawksbill turtle (Eretmochelys imbricata), Endangered Kemp's ridley turtle (Lepidochelys kempii), Endangered Leatherback turtle (Dermochelys coriacea), Threatened Loggerhead turtle (Caretta caretta).

Endangered Shortnose sturgeon (Acipenser brevirostrum).

Permits and Modifications Issued

Modification #1 to Permit 1245

Notice was published on July 12, 2000 (65 FR 42992) that Mr. J. David Whitaker, of South Carolina Department of Natural Resources applied for a modification to permit 1245. Modification #1 increases the authorized take of loggerhead turtles from 200 to 250 animals annually, green turtles from 1 to ten annually, Kemp's ridley turtles from 23 to 50 annually and adds the take of five hawksbill turtles annually. The applicant possesses a three year permit to establish a scientifically-valid indices of abundance for the northern sub-population of the threatened loggerhead turtle and the endangered Kemp's ridley, green and leatherback sea turtles which occur in the Atlantic Ocean off the southeastern United States. This study is intended to capture juveniles and adults, thereby providing a more comprehensive assessment of total population abundance and an assessment of the health of individual animals. Modification #1 to Permit 1245 was issued on August 11, 2000, authorizing take of listed species. Permit 1245 expires October 31, 2002.

Permit #1239

Notice was published on 03/02/2000 (65 FR 11288) that Dr. Boyd Kynard, of U.S. Geological Survey applied for a scientific research permit (1239). The proposed research continues over 20 years of research on life history of shortnose sturgeon in the Connecticut river, will collect new information on spawning, migration, habitat and fish passage of the species. The applicant has requested a 5-year permit to lethally take up to 200 spawned eggs, embryos and larvae annually; capture, PIT tag and release up to 350 juvenile and adult sturgeon annually; and authorization to lethally take up to 1000 pre-spawned eggs; radio tag and release 3 pre-spawned females and 7 pre-spawned males for 3 years of the permit. Permit 1239 was issued on August 17, 2000, authorizing take of listed species. Permit 1239 expires June 30, 2005.

Dated: August 17, 2000.
Chris Mobley,
Acting Chief, Endangered Species Division, Office of Protected Resources, National Marine Fisheries Service.

[FR Doc. 00-21543 Filed 8-22-00; 8:45 am]

BILLING CODE 3510-22-F